DEPARTMENT OF HOMELAND SECURITY

Transportation Security Administration

Notice of Intent To Request Renewal From the Office of Management and Budget (OMB) of One Current Public Collection of Information; Federal Flight Deck Officer (FFDO) Program

AGENCY: Transportation Security Administration (TSA), DHS.

ACTION: Notice.

SUMMARY: TSA invites public comment on one currently approved information collection requirement abstracted below that will be submitted to OMB for renewal in compliance with the Paperwork Reduction Act.

DATES: Send your comments by October 24, 2005.

ADDRESSES: Comments may be mailed or delivered to Katrina Wawer, Information Collection Specialist, Office of Transportation Security Policy, TSA-9, Transportation Security Administration, 601 South 12th Street, Arlington, VA 22202-4220.

FOR FURTHER INFORMATION CONTACT: Ms. Wawer at the above address or by telephone (571) 227-1995 or facsimile (571) 227-2594.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Information Collection Requirement

1652-0011; Federal Flight Deck Officer (FFDO) Program. The Transportation Security Administration (TSA) initially required this information collection under Pub. L. 107-296 and Pub. L. 108-176. See Arming Pilots Against Terrorism Act (APATA), Title XIV of the Homeland Security Act (Pub. L. 107-296, Nov. 25, 2202), codified at 49 U.S.C. 44921; Vision 100—Century of Aviation Reauthorization Act (Vision 100) (Pub. L. 108-176, 117 Stat. 2490, Dec. 12, 2003), codified at 49 U.S.C. 44918. TSA is seeking to renew this information collection in order to continue collecting the information described in this notice to comply with its statutory mission. APATA required TSA to establish a program to screen, select, train, deputize, equip and supervise qualified volunteer pilots of passenger aircraft. With the enactment of the Vision 100, the program was expanded to include pilots of cargo aircraft, as well as flight engineers and navigators, on both passenger and cargo aircraft.

These individuals, known as Federal Flight Deck Officers (FFDOs), are authorized to transport and carry a firearm and to use force, including deadly force, to defend the flight deck of an aircraft against acts of criminal violence or air piracy. In order to screen FFDO volunteers for entry into the program, TSA collects information, including name, address, prior address information, personal references, criminal history, limited medical information, financial information and employment information, from applicants through comprehensive applications they submit to TSA. The information collected is used to assess the qualifications and suitability of prospective and current FFDOs through an online application, to ensure the readiness of every FFDO, to administer the program, and for security purposes.

Based on the number of current FFDOs, TSA estimates a total of 6,000 respondents annually. It is estimated the online application will take one hour for each applicant to prepare, for a total burden of 6,000 hours.

Issued in Arlington, Virginia, on August 17, 2005.
Lisa S. Dean,
Privacy Officer.

[FR Doc. 05-16683 Filed 8-22-05; 8:45 am]

BILLING CODE 4910-62-P